ENVIRONMENTAL PROTECTION AGENCY

40 CFR Chapter 1

[FRL-7635-7]

RIN 2060-AL71

Approaches to an Integrated Framework for Management and Disposal of Low-Activity Radioactive Waste: Request for Comment; Extension of Comment Period

AGENCY: Environmental Protection Agency (EPA).

ACTION: Advance Notice of Proposed Rulemaking (ANPR); extension of comment period.

SUMMARY: The Environmental Protection Agency is extending the comment period for the Advance Notice of Proposed Rulemaking titled “Approaches to an Integrated Framework for Management and Disposal of Low-Activity Radioactive Waste: Request for Comment,” which appeared in the Federal Register on November 18, 2003 (68 FR 65120). The public comment period for this ANPR was to end on March 17, 2004. The purpose of this notice is to extend the comment period.

DATES: EPA will accept public comments on this ANPR until May 17, 2004. Comments received after that date will be marked “late” and accepted at our discretion.

ADDRESSES: Comments may be submitted by mail to Air and Radiation Docket, Environmental Protection Agency, EPA West Room B108, Mailcode: 6102T, 1200 Pennsylvania Ave. NW., Washington, DC 20460, Attention Docket ID No. OAR-2003-0095. Comments may also be submitted electronically or through hand delivery/courier. Follow the detailed instructions as provided in the SUPPLEMENTARY INFORMATION section.

FOR FURTHER INFORMATION CONTACT: Dan Schultheisz, Radiation Protection Division, Office of Radiation and Indoor Air, Mailcode: 6608J, United States Environmental Protection Agency, Washington, DC, 20460-0001; telephone (202) 343-9300; e-mail schultheisz.daniel@epa.gov.

SUPPLEMENTARY INFORMATION: The ANPR that is the subject of this notice, and which was published in the Federal Register on November 18, 2003 (68 FR 65120), requested public comment on a variety of technical and policy issues related to the management and disposal of “low-activity” radioactive waste. The ANPR outlined approaches that EPA believes could help improve the current regulatory system and provide more consistency in the management of these wastes. Most prominent is the potential use of hazardous waste landfills permitted under Subtitle C of the Resource Conservation and Recovery Act (RCRA) for wastes containing low concentrations of radionuclides. Waste streams discussed in the ANPR include wastes currently regulated at the Federal level (such as mixed hazardous and radioactive wastes) and wastes primarily regulated by States (such as wastes containing natural radioactivity).

The comment period for the ANPR was scheduled to end on March 17, 2004. However, the Agency has received both formal and informal requests to extend the comment period. The Utilities Solid Waste Activities Group has formally requested that EPA extend the comment period, noting that it is submitting comments on several other EPA rulemaking actions with comment periods ending close to that date. The National Mining Association and Wyoming Mining Association have made similar requests. EPA believes these requests are reasonable. EPA also notes that this action is not subject to any statutory or judicial deadlines. We are therefore extending the comment period for this ANPR until May 17, 2004.

EPA also notes that several public interest groups, particularly the Nuclear Information and Resource Service (NIRS) and Public Citizen, have requested extensions of six and eight months, respectively. The reason given for these requests is to ensure that those communities in the vicinity of disposal facilities potentially affected by an EPA action are fully informed of the issues raised in the ANPR. An extension of such length, particularly at the ANPR stage, would be highly unusual. Periods of 30 or 45 days are more typical. Further, should EPA decide that a rulemaking is appropriate, there will be additional opportunity for public comment on any proposed rule that contains specific regulatory language. EPA believes that a 60-day extension until May 17, 2004, making the entire comment period six months, is sufficient. However, EPA appreciates this concern and is considering a number of methods to ensure that local communities are involved in all stages of the process.

How and To Whom Do I Submit Comments?

You may submit comments electronically, by mail, by facsimile, or through hand delivery/courier. To ensure proper receipt by EPA, identify the appropriate docket identification number in the subject line on the first page of your comment. Please ensure that your comments are submitted within the specified comment period. Comments received after the close of the comment period will be marked “late.” EPA is not required to consider these late comments, but will do so at its discretion.

Electronically

If you submit an electronic comment as prescribed below, EPA recommends that you include your name, mailing address, and an e-mail address or other contact information in the body of your comment. Also include this contact information on the outside of any disk or CD-ROM you submit, and in any cover letter accompanying the disk or CD-ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

Your use of EPA's electronic public docket to submit comments to EPA electronically is EPA's preferred method for receiving comments. Go directly to EPA Dockets at http://www.epa.gov/edocket, and follow the online instructions for submitting comments. To access EPA's electronic public docket from the EPA Internet Home Page, select “Information Sources,” “Dockets,” and “EPA Dockets.” Once in the system, select “search,” and then key in Docket ID No. OAR-2003-0095. The system is an “anonymous access” system, which means EPA will not know your identity, e-mail address, or other contact information unless you provide it in the body of your comment.

Comments may be sent by electronic mail (e-mail) to a-and-r-Docket@epa.gov, Attention Docket ID No. OAR-2003-0095. In contrast to EPA's electronic public docket, EPA's e-mail system is not an “anonymous access” system. If you send an e-mail comment directly to the Docket without going through EPA's electronic public docket, EPA's e-mail system automatically captures your e-mail address. E-mail addresses that are automatically captured by EPA's e-mail system are included as part of the comment that is placed in the official public docket, and made available in EPA's electronic public docket.

You may submit comments on a disk or CD-ROM that you mail to the mailing address identified in the following paragraph. These electronic submissions will be accepted in WordPerfect or ASCII file format. Avoid the use of special characters and any form of encryption.

By Mail

Send your comments to: Air and Radiation Docket, Environmental Protection Agency, EPA West Room B108, Mailcode: 6102T, 1200 Pennsylvania Ave., NW., Washington, DC 20460, Attention Docket ID No. OAR-2003-0095.

By Hand Delivery or Courier

Deliver your comments to: Air and Radiation Docket in the EPA Docket Center, EPA West Room B108, 1301 Constitution Ave., NW., Washington, DC, 20004, Attention Docket ID No. OAR-2003-0095. Such deliveries are only accepted during the Docket's normal hours of operation (8:30 a.m. to 4:30 p.m. Monday through Friday, excluding legal holidays).

By Facsimile

Fax your comments to (202) 566-1741, Attention Docket ID. No. OAR-2003-0095.

Dated: March 4, 2004.
Robert Brenner,
Acting Assistant Administrator for Air and Radiation.

[FR Doc. 04-5642 Filed 3-11-04; 8:45 am]

BILLING CODE 6560-50-P